DEPARTMENT OF HEALTH AND HUMAN SERVICES

Centers for Disease Control and Prevention

Disease, Disability, and Injury Prevention and Control Special Emphasis Panel (SEP): Addressing Emerging Infectious Diseases in the Republic of India, Funding Opportunity Announcement (FOA) IP 08-009

In accordance with Section 10(a)(2) of the Federal Advisory Committee Act (Pub. L. 92-463), the Centers for Disease Control and Prevention (CDC) announces the aforementioned meeting.

Time and Date: 12 p.m.-2 p.m., June 17, 2008 (Closed).

Place: Teleconference.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to “Addressing Emerging Infectious Diseases in the Republic of India,” FOA IP 08-009.

Contact Person for More Information: Trudy Messmer, PhD, Scientific Review Administrator, Coordinating Center for Infectious Diseases, Office of the Director, CDC, 1600 Clifton Road, NE., Mailstop C19, Atlanta, GA 30333, Telephone 404-639-2176.

The Director, Management Analysis and Services Office, has been delegated the authority to sign Federal Register notices pertaining to announcements of meetings and other committee management activities, for both CDC and the Agency for Toxic Substances and Disease Registry.

Dated: April 28, 2008.
Diane Allen,
Acting Director, Management Analysis and Services Office, Centers for Disease Control and Prevention.

[FR Doc. E8-9515 Filed 5-1-08; 8:45 am]

BILLING CODE 4163-18-P